DEPARTMENT OF COMMERCE

International Trade Administration

Notice of Scope Rulings

AGENCY: Enforcement and Compliance, International Trade Administration, Department of Commerce.

DATES: Applicable July 16, 2019.

SUMMARY: The Department of Commerce (Commerce) hereby publishes a list of scope rulings and anti-circumvention determinations made between January 1, 2018, and March 31, 2018, inclusive. We intend to publish future lists after the close of the next calendar quarter.

FOR FURTHER INFORMATION CONTACT: Brenda E. Brown, AD/CVD Operations, Customs Liaison Unit, Enforcement and Compliance, International Trade Administration, U.S. Department of Commerce, 1401 Constitution Avenue NW, Washington, DC 20230; telephone: 202-482-4735.

SUPPLEMENTARY INFORMATION:

Background

Commerce regulations provide that the Secretary will publish in the Federal Register a list of scope rulings on a quarterly basis.¹ Our most recent notification of scope rulings was published on March 14, 2019.² This current notice covers all scope rulings and anti-circumvention determinations made by Enforcement and Compliance between January 1, 2018, and March 31, 2018, inclusive.

¹ See 19 CFR 351.225(o).

² See Notice of Scope Rulings, 84 FR 9295 (March 14, 2019).

Scope Rulings Made Between January 1, 2018 and March 31, 2018

Republic of Korea

A-580-878 and C-580-879: Certain Corrosion-Resistant Steel Products From Republic of Korea

Requestor: American Pan Company & Premier Pan Company Inc. The scope description of the orders is dispositive as to whether certain fluoropolymer-coated cut sheets are within the scope of the orders because: (1) They fall within the measurement ranges of the scope of the orders; (2) the chemical composition is within the requirements of the scope of the orders; (3) none of the further manufacturing performed in the United Kingdom removes the sheets from the scope of the orders; and (4) none of the specified exclusions apply to the imported sheets; January 2, 2018.

People's Republic of China

A-570-967 and C-570-968: Aluminum Extrusions From the People's Republic of China

Requestor: Rowley Company. Rowley Company's drapery rod kits are not covered by the scope of the antidumping duty (AD) and countervailing duty (CVD) orders on aluminum extrusions from the People's Republic of China (China) because they meet the criteria for the finished goods kit scope exclusion; March 1, 2018.

A-570-967 and C-570-968: Aluminum Extrusions From the People's Republic of China

Requestor: E-Z Up Inc. Six collapsible shelter frames are not covered by the scope of the AD and CVD orders on aluminum extrusions from China because they meet the criteria for the finished merchandise or finished goods kit scope exclusions; March 7, 2018.

A-570-814: Carbon Steel Butt-Weld Pipe Fittings; A-570-910 and C-570-911: Circular Welded Carbon-Quality Steel Pipe; A-570-930 and C-570-931: Circular Welded Austenitic Stainless Steel Pressure Pipe; and A-570-956 and C-570-957: Seamless Carbon and Alloy Steel Standard, Line, and Pressure Pipe From the People's Republic of China

Requestor: SinoStruct Proprietary Limited (Sinostruct). Pipe spools produced in China by SinoStruct entirely from components produced in third countries that are not subject to any AD or CVD orders, and are exported to the United States by SinoStruct, are not within the scopes of the AD and CVD orders on carbon steel butt-weld pipe fittings; circular welded carbon-quality steel pipe; circular welded austenitic stainless steel pressure pipe; and seamless carbon and alloy steel standard, line, and pressure pipe from China; March 29, 2018.

A-570-814: Certain Carbon Steel Butt-Weld Pipe Fittings From the People's Republic of China

Requestor: Val-Fit, Inc. Val-Fit's butt-weld pipe fittings are not covered by the scope of the AD order on certain carbon steel butt-weld pipe fittings from China because the butt-weld fittings have openings with inside diameters both above and below the 14-inch threshold set forth in the scope of the order. Commerce found that the scope of the order on certain carbon steel butt-weld pipe fittings from China only covers butt-weld pipe fittings with inside diameters of less than 14 inches in diameter throughout the fitting. Since Val-fit's butt-welds have one or more opening greater than 14 inches, they not covered by the scope of the order on certain carbon steel butt-weld pipe fittings from China; February 12, 2018.

A-570-956 and C-570-957: Certain Seamless Carbon and Alloy Steel Standard, Line, and Pressure Pipe From the People's Republic of China

Requestor: Advance Engineering Corporation (AEC). Specialized seamless pipe (AEC Pipe) product imported by Advance Engineering Corporation are within the scope of the AD and CVD orders on certain seamless carbon and alloy steel standard, line, and pressure pipe from the China because AEC did not demonstrate that AEC Pipe met two of the exclusions—specifically the ASTM A-355 standard and aerospace specifications-enumerated in the scope language; March 29, 2018.

A-570-909: Certain Steel Nails From the People's Republic of China

Requestor: Simpson Strong-Tie Company. Crimp drive anchors (a type of masonry anchor) are covered by the scope of the AD order on certain steel nails from China because they meet the physical description of subject merchandise, as described in the scope of the order; March 6, 2018.

A-570-026 and C-570-027: Corrosion-Resistant Steel Products From the People's Republic of China

Requestor: Stoughton Trailer LLC. Composite panels (i.e., manufactured composite goods consisting of sheets of corrosion-resistant steel bonded to a plastic core) for semi-trailer enclosures are within the scope of the AD and CVD orders; January 12, 2018.

A-570-891: Hand Trucks and Certain Parts Thereof From the People's Republic of China

Requestor: Scotch Corporation. Scotch's Corporation's Bucket Master is not covered by the scope of the antidumping duty order on hand trucks and certain parts thereof from China, because it lacks a “frame,” as well as a “projecting edge” or “toe plate,” within the meaning of the scope of the order; January 18, 2018.

A-570-941 and C-570-942: Kitchen Appliance Shelving and Racks From the People's Republic of China

Requestor: Thermo Fisher Scientific LLC (Thermo Fisher). Thermo Fisher's freezer shelves are not covered by the scope of the AD and CVD orders on kitchen appliance shelving and racks from China because they are made of only sheet metal, whereas the scope of the orders requires that the subject merchandise be made primarily of steel wire; February 8, 2018.

A-570-922 and C-570-923: Raw Flexible Magnets From the People's Republic of China

Requestor: Magnetic Building Solutions, LLC. Flooring underlay imported from China (i.e., raw flexible magnet sheet) is within the scope of the AD and CVD orders; March 6, 2018.

Interested parties are invited to comment on the completeness of this list of completed scope inquiries. Any comments should be submitted to the Deputy Assistant Secretary for AD/CVD Operations, Enforcement and Compliance, International Trade Administration, 1401 Constitution Avenue NW, APO/Dockets Unit, Room 18022, Washington, DC 20230.

This notice is published in accordance with 19 CFR 351.225(o).

Dated: July 9, 2019.
James Maeder,
Deputy Assistant Secretary for Antidumping and Countervailing Duty Operations.

[FR Doc. 2019-14954 Filed 7-15-19; 8:45 am]

BILLING CODE 3510-DS-P